INTERNATIONAL BOUNDARY AND WATER COMMISSION UNITED STATES AND MEXICO

United States Section; Notice of Availability of a Final Supplemental Environmental Assessment and Finding of No Significant Impact for Flood Control Improvements to the Rio Grande Canalization Project in Vado, New Mexico

AGENCY: United States Section, International Boundary and Water Commission (USIBWC), United States and Mexico.

ACTION: Notice of Availability of Final Supplemental Environmental Assessment (SEA) and Finding of No Significant Impact (FONSI).

SUMMARY: Pursuant to Section 102(2)(c) of the National Environmental Policy Act of 1969; the Council on Environmental Quality Final Regulations (40 CFR Parts 1500 through 1508); and the USIBWC's Operational Procedures for Implementing Section 102 of NEPA, published in the Federal Register September 2, 1981, (46 FR 44083); the USIBWC hereby gives notice that the Final Supplemental Environmental Assessment and Finding of No Significant Impact for Flood Control Improvements to the Rio Grande Canalization Project in Vado, New Mexico are available.

FOR FURTHER INFORMATION CONTACT: Gilbert Anaya, Environmental Management Division; United States Section, International Boundary and Water Commission; 4171 N. Mesa, C-100; El Paso, Texas 79902. Telephone: (915) 832-4703, email: gilbert.anaya@ibwc.gov.

SUPPLEMENTARY INFORMATION:

Proposed Action

The USIBWC is considering relocating the Rio Grande river channel in the Canalization Project Levee System in a 1.08 mile stretch in Vado, New Mexico and create new levees where no flood control measures exist in an effort to meet current flood control requirements. The Preferred Alternative would relocate the river channel approximately 100 feet west due to the river channel moving east against the Burlington Northern Santa Fe (BNSF) railroad. The preferred alternative would then create a new levee that would tie into existing levee structures to the north and south of the project area. These improvements will be subject to availability of funds.

The Supplemental Environmental Assessment assesses potential environmental impacts of the No Action Alternative and the Preferred Alternative. Two additional alternatives were considered but were not evaluated as they were determined to be more costly, more difficult to achieve, less reliable, and more difficult to maintain. Potential impacts on natural, cultural, and other resources were evaluated. A Finding of No Significant Impact was issued for the Preferred Alternative based on a review of the facts and analyses contained in the Supplemental Environmental Assessment when taking the proposed mitigation into account.

Alternatives Considered

A No Action Alternative was evaluated for the flood control improvements to the Rio Grande Canalization Project Levee System. This alternative would retain the existing configuration of the system, and the level of protection currently associated with this system. Under severe storm events, current containment capacity may be insufficient to fully control Rio Grande flooding, with risks to personal safety and potential property damage, as well as risks to the railroad system.

Design alternatives were conducted and evaluated in the final design memorandum entitled “Rehabilitation Improvements for the Vado East Levee, Doña Ana County, New Mexico,” dated July 29, 2011. The final design memorandum evaluated three alternatives as described below.

Preferred Alternative. The Preferred Alternative would allow the levees to meet the design criteria to contain flood flows and to comply with FEMA specifications for the levees in the Rio Grande Canalization Project Levee System. This would be accomplished by creating a flood containment levee 1.08 miles in length that would continue from the current levee system to the north and south of the project area. Fill material, obtained from commercial sources would be used to create a levee to meet the 3 foot freeboard criterion established by the Federal Emergency Management Agency (FEMA). In order to create the levee in this area, the river channel would have to be relocated 100 feet to the west and the floodplain would have to be re-established on the eastern side of the river.

Flood Wall Alternative. This alternative would construct a flood wall that would tie into the existing levee system to the north and south of the project. The flood wall would require dredging the river channel along the section that is currently against the railroad easement and construction of a concrete or metal wall that would extend 888 feet along the river and existing flood plain to the current levees. The wall would be 8 feet tall above the flood plain and require pilings to be driven 40 feet in the ground.

Sheet Pile Wall Alternative. This alternative would construct a sheet pile wall instead of the flood wall. This wall would follow the same requirements but would consist of interlocked metal sheets driven into the ground instead of a concrete wall. Therefore, the pilings would also have to be driven 40 feet into the ground but would instead of a few like in the flood wall; all of the pilings across the entire length would have to be driven down to bedrock.

Availability

Single hard copies of the Final Supplemental Environmental Assessment and Finding of No Significant Impact may be obtained by request at the above address. Electronic copies may also be obtained from the USIBWC Web page: www.ibwc.gov/Organization/Environmental/EIS_EA_Public_Comment.html.

Rebecca Rizutti,
General Counsel.

[FR Doc. 2014-19373 Filed 8-14-14; 8:45 am]

BILLING CODE 7010-01-P